DEPARTMENT OF ENERGY

Federal Energy Regulatory Commission

[Docket No. ER91-569-024, et al.]

Entergy Services, Inc., et al.; Electric Rate and Corporate Filings

November 22, 2004.

The following filings have been made with the Commission. The filings are listed in ascending order within each docket classification.

1. Entergy Services, Inc.

[Docket No. ER91-569-024]

Take notice that on November 19, 2004, Entergy Services, Inc., on behalf of Entergy Arkansas, Inc., Entergy Gulf States, Inc., Entergy Louisiana, Inc., Entergy Mississippi, Inc., and Entergy New Orleans, Inc., pursuant to the Commission's deficiency letter dated October 29, 2004, filed an amendment to their August 9, 2004, filing,of their generation market power study.

Comment Date: 5 p.m. eastern time on December 7, 2004.

2. Duke Power, a Division of Duke Energy Corporation

[Docket No. ER96-110-012]

Take notice that on November 19, 2004, Duke Power, a Division of Duke Energy Corporation , pursuant to the Commission's deficiency letter dated October 29, 2004, filed an amendment to its August 11, 2004, filing, as corrected on August 12, 2004, of its generation market power study.

Comment Date: 5 p.m. eastern time on December 7, 2004.

3. Public Service Company of New Mexico

[Docket Nos. ER96-1551-009 and ER01-615-006]

Take notice that on November 19, 2004, the Public Service Company of New Mexico, pursuant to the Commission's deficiency letter dated October 29, 2004, filed an amendment to its August 11, 2004, filing, as supplemented on October 7, 2004, of its generation market power study.

Comment Date: 5 p.m. eastern time on December 7, 2004.

4. AEP Power Marketing, Inc. AEP Service Corporation, CSW Power Marketing, Inc., CSW Energy Services, Inc., Central and South West Services, Inc.

[Docket Nos. ER96-2495-023, ER97-4143-011, ER97-1238-018, ER98-2075-017, and ER98-542-013]

Take notice that on November 19, 2004, the American Electric Power Service Corporation, on behalf of AEP Power Marketing, Inc., AEP Service Corporation, CSW Power Marketing, Inc., CSW Energy Services, Inc. and Central South West Services, Inc., pursuant to the Commission's deficiency letter dated October 29, 2004, filed an amendment to their August 11, 2004, filing of their generation market power study.

Comment Date: 5 p.m. eastern time on December 7, 2004.

5. Dayton Power and Light Company, DPL Energy, LLC

[Docket Nos. ER96-2601-018 and ER96-2602-007]

Take notice that on November 19, 2004, Dayton Power and Light Company and DPL Energy, LLC, pursuant to the Commission's deficiency letter dated October 29, 2004, filed an amendment to their October 15, 2004, filing of their generation market power study.

Comment Date: 5 p.m. eastern time on December 7, 2004.

6. Southern Company Energy Marketing, L.P., Southern Company Services, Inc.

[Docket Nos. ER97-4166-016 and ER96-780-006]

Take notice that on November 19, 2004, Southern Company Services, Inc., acting as agent for Alabama Power Company, Georgia Power Company, Gulf Power Company, Mississippi Power Company, Savannah Electric and Power Company, and Southern Power Company, pursuant to the Commission's deficiency letter dated October 29, 2004, filed an amendment to their August 9, 2004, filing of their generation market power study.

Comment Date: 5 p.m. eastern time on December 7, 2004.

7. Duke Energy Moss Landing LLC, Duke Energy Morro Bay LLC, Duke Energy Oakland LLC, Duke Energy South Bay LLC

[Docket Nos. ER98-2680-008, ER98-2681-008, ER98-2682-008, and ER99-1785-007]

Take notice that on November 19, 2004, Duke Energy Moss Land LLC, Duke Energy Morro Bay LLC, Duke Energy Oakland LLC and Duke Energy South Bay LLC, pursuant to the Commission's deficiency letter dated October 29, 2004, filed an amendment to their August 11, 2004, filing of their generation market power study.

Comment Date: 5 p.m. eastern time on December 7, 2004.

8. Consumers Energy Company, CMS Energy Resource Management Company, Grayling Generating Station Limited Partnership, Genesee Power Station Limited Partnership , CMS Generation Michigan Power, L.L.C., Dearborn Industrial Generation, L.L.C.

[Docket Nos. ER98-4421-005, ER96-2350-025, ER99-791-003, ER99-806-002, ER99-3677-004, and ER01-570-005]

Take notice that on November 18, 2004, Consumers Energy Company, CMS Energy Resource Management Company, Grayling Generating Station Limited Partnership, Genesee Power Station Limited Partnership, CMS Generation Michigan Power, L.L.C. and Dearborn Industrial Generation, L.L.C., pursuant to the Commission's deficiency letter dated October 29, 2004, filed an amendment to their October 1, 2004, filing of their generation market power study.

Comment Date: 5 p.m. eastern time on December 7, 2004.

9. Alliant Energy Corporate Services, Inc.

[Docket Nos. ER99-230-006 and ER03-762-005]

Take notice that on November 19, 2004, Alliant Energy Corporate Services, Inc., pursuant to the Commission's deficiency letter dated October 29, 2004, filed an amendment to its August 20, 2004 filing of its generation market power study.

Comment Date: 5 p.m. eastern time on December 7, 2004.

10. Puget Sound Energy, Inc.

[Docket No. ER99-845-007]

Take notice that on November 19, 2004, Puget Sound Energy, Inc. (Puget), pursuant to the Commission's deficiency letter dated October 29, 2004, filed an amendment to its August 11, 2004, filing, as amended on September 24, 2004, of its generation market power study.

Comment Date: 5 p.m. eastern time on December 7, 2004.

11. Kansas City Power & Light Company, Great Plains Power, Inc.

[Docket No. ER99-1005-003 and ER02-725-004]

Take notice that on November 19, 2004, Great Plains Energy Incorporated, on behalf of Kansas City Power & Light Company and Great Plains Power, Inc., pursuant to the Commission's deficiency letter dated October 29, 2004, filed an amendment to their August 11, 2004, filing of their generation market power study.

Comment Date: 5 p.m. eastern time on December 7, 2004.

12. El Paso Electric Company

[Docket Nos. ER99-2416-004 and ER99-2416-005]

Take notice that on November 17, 2004, as supplemented on November 18, 2004, El Paso Electric Company submitted a technical amendment to its Market-Based Rate Tariff and a supplement to the revised generation market power studies filed on August 11, 2004.

Comment Date: 5 p.m. eastern time on December 7, 2004.

13. Pinnacle West Capital Corporation, Arizona Public Service Company, Pinnacle West Energy Corporation, APS Energy Services Company, Inc.

[Docket No. ER00-2268-007, ER99-4124-005, ER00-3312-006, ER99-4122-008]

Take notice that on November 19, 2004, pursuant to the Commission's deficiency letter dated October 29, 2004, the Pinnacle West Capital Corporation, the Arizona Public Service Company, the Pinnacle West Energy Corporation and APS Energy Services Company, Inc. (collectively, the Pinnacle West Companies) filed an amendment to their August 11, 2004, filing, as supplemented on September 28, 2004, of their generation market power analysis.

Comment Date: 5 p.m. eastern time on December 7, 2004.

14. Duke Energy Marketing America, LLC

[Docket No. ER03-956-003]

Take notice that on November 19, 2004, Duke Energy Marketing America, LLC, pursuant to the Commission's deficiency letter dated October 29, 2004, filed an amendment to its August 11, 2004, filing of its generation market power study.

Comment Date: 5 p.m. eastern time on December 7, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E4-3366 Filed 11-29-04; 8:45 am]

BILLING CODE 6717-01-P